ENVIRONMENTAL PROTECTION AGENCY

[EPA-HQ-OPP-2009-0777; FRL-8813-9]

Maneb; Product Cancellation Order of a Certain Pesticide Registration

AGENCY: Environmental Protection Agency (EPA).

ACTION: Notice.

SUMMARY: This notice announces EPA's order for the cancellation, voluntarily requested by the registrant and accepted by the Agency, of a product containing the pesticide maneb, pursuant to section 6(f)(1) of the Federal Insecticide, Fungicide, and Rodenticide Act (FIFRA), as amended. This cancellation order follows a January 6, 2010 Federal Register Notice of Receipt of Request from the registrant, Drexel Chemical Company, to voluntarily cancel their product registration. This is not the last product containing this pesticide registered for use in the United States. In the January 6, 2010 notice, EPA indicated that it would issue an order implementing the cancellation, unless the Agency received substantive comments within the 30-day comment period that would merit its further review of these requests, or unless the registrant withdrew their request within this period. The Agency did not receive any comments on the notice. Further, the registrant did not withdraw their request. Accordingly, EPA hereby issues in this notice a cancellation order granting the requested cancellation. Any distribution, sale, or use of the product subject to this cancellation order is permitted only in accordance with the terms of this order, including any existing stocks provisions.

DATES: The cancellation is effective February 24, 2010.

FOR FURTHER INFORMATION CONTACT: Barbara Briscoe, Pesticide Re-evaluation Division (7508P), Office of Pesticide Programs, Environmental Protection Agency, 1200 Pennsylvania Ave., NW., Washington, DC 20460-0001; telephone number: (703) 308-8177; fax number: (703) 308-8090; e-mail address: Briscoe.Barbara@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2009-0777. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This notice announces the cancellation, as requested by registrant, of a product registered under section 3 of FIFRA. This registration is listed below in Table 1.

Table 1.—Maneb Product Cancellation
EPA Registration Number | Product Name
019713-00377 | Maneb Technical

Table 2 below includes the name and address of record for the registrant of the product listed in Table 1.

Table 2.—Registrant of Canceled Product
EPA Company Number | Company Name and Address
019713 | Drexel Chemical Company 1700 Channel Ave. P.O. Box 13327 Memphis, TN 38113

III. Summary of Public Comments Received and Agency Response to Comments

During the public comment period provided, EPA received no comments in response to the January 6, 2010 notice announcing the Agency's receipt of the request for voluntary cancellation of the product listed in Table 1.

IV. Cancellation Order

Pursuant to FIFRA section 6(f), EPA hereby approves the requested cancellation of the maneb registration identified in Table 1. Accordingly, the Agency orders that the product registration identified in Table 1 is hereby canceled. Any distribution, sale, or use of existing stocks of the product identified in Table 1 in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled. FIFRA further provides that, before acting on the request, EPA must publish a notice of receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. Due to a delay in the publication of the section 6(f)(1) notice, dated January 6, 2010, the date allowed to sell or distribute existing stocks of the maneb technical will be changed from February 10, 2010 (as stated in the section 6(f) receipt notice) to until February 26, 2010. EPA is allowing sale, distribution and use in the cancellation order as described below.

1. The registrant will be allowed to sell or distribute existing stocks of the maneb technical product identified in Table 1, until February 26, 2010.

2. The registrant will be allowed to use existing stocks to formulate end-use products from the maneb technical product identified in Table 1, until March 10, 2010.

3. Persons other than the registrant may use the maneb end use products until exhausted. Any use of existing stocks must be in a manner consistent with the previously approved labeling for that product.

List of Subjects

Environmental protection, Pesticides and pests.

Dated: February 18, 2010.
Richard P. Keigwin, Jr.
Director, Pesticide Re-evaluation Division, Office of Pesticide Programs.

[FR Doc. 2010-3677 Filed 2-23-10; 8:45 am]

BILLING CODE 6560-50-S